DEPARTMENT OF HEALTH AND HUMAN SERVICES

Centers for Disease Control and Prevention

Board of Scientific Counselors, National Institute for Occupational Safety and Health (BSC, NIOSH)

In accordance with section 10(a)(2) of the Federal Advisory Committee Act (Pub. L. 92-463), the Centers for Disease Control and Prevention (CDC) announces the following meeting for the aforementioned committee:

Time and Dates: 8:30 a.m.-3:15 p.m., November 15, 2011.

Place: Patriots Plaza I, 395 E Street, SW., Room 9000, Washington, DC 20201.

Status: Open to the public, limited only by the space available. The meeting room accommodates approximately 50 people. This meeting is available by teleconference. Please dial (877) 328-2816 and enter code 6558291.

Purpose: The Secretary, the Assistant Secretary for Health, and by delegation the Director, Centers for Disease Control and Prevention, are authorized under Sections 301 and 308 of the Public Health Service Act to conduct directly or by grants or contracts, research, experiments, and demonstrations relating to occupational safety and health and to mine health. The Board of Scientific Counselors shall provide guidance to the Director, National Institute for Occupational Safety and Health on research and prevention programs. Specifically, the Board shall provide guidance on the Institute's research activities related to developing and evaluating hypotheses, systematically documenting findings and disseminating results. The Board shall evaluate the degree to which the activities of the National Institute for Occupational Safety and Health: (1) Conform to appropriate scientific standards; (2) address current, relevant needs; and (3) produce intended results.

Matters To Be Discussed: The agenda will include the following: (1) Director Update; (2) Implementation of the National Academies Program Recommendations for Respiratory Diseases, Hearing Loss Prevention, Personal Protective Technologies, and Health Hazard Evaluations; (3) Occupational Safety and Health Workforce Needs Assessment; (4) and Future Directions for Extramural Research. Agenda items are subject to change as priorities dictate.

Contact Person for More Information: Roger Rosa, Designated Federal Officer, BSC, NIOSH, CDC, 395 E Street, SW., Suite 9200, Patriots Plaza Building, Washington, DC 20201, telephone (202) 245-0655, fax (202) 245-0664.

The Director, Management Analysis and Services Office, has been delegated the authority to sign Federal Register notices pertaining to announcements of meetings and other committee management activities for both the Centers for Disease Control and Prevention and the Agency for Toxic Substances and Disease Registry.

Dated: October 17, 2011.
Elaine L. Baker,
Director, Management Analysis and Services Office, Centers for Disease Control and Prevention.

[FR Doc. 2011-27403 Filed 10-21-11; 8:45 am]

BILLING CODE 4163-18-P